DEPARTMENT OF EDUCATION

[Docket ID ED-2011-OII-0001]

Investing in Innovation Fund

AGENCY: Office of Innovation and Improvement, Department of Education.

ACTION: Notice announcing the location, dates, and times of pre-application meetings.

Overview Information

Investing in Innovation Fund

Catalog of Federal Domestic Assistance (CFDA) Numbers: 84.411A (Scale-up grants), 84.411B (Validation grants), and 84.411C (Development grants).

SUMMARY: The Assistant Deputy Secretary for Innovation and Improvement announces pre-application meetings for the fiscal year (FY) 2011 Investing in Innovation Fund (i3) competition. The Department of Education (Department) published three notices inviting applications for the i3 program in the Federal Register on June 3, 2011 (76 FR 32148-32182). These notices include the priorities and selection criteria that the Department will use for the FY 2011 i3 competition. The Department published a separate notice inviting applications for each grant type—Scale-up, Validation, and Development—under the i3 program.

FOR FURTHER INFORMATION CONTACT: Thelma Leenhouts, U.S. Department of Education, 400 Maryland Avenue, SW., Room 4W302, Washington, DC 20202-5960. Telephone: (202) 453-7122; or by e-mail: i3@ed.gov.

If you use a telecommunications device for the deaf (TDD) or a text telephone (TTY), call the Federal Relay Service, toll free, at 1-800-877-8339.

SUPPLEMENTARY INFORMATION: The Department intends to hold pre-application meetings designed to provide technical assistance to interested applicants for all three types of i3 grants (Scale-up, Validation, and Development). The Department will hold two pre-application meetings on June 17, 2011, in Washington, DC, from 9:00 a.m. to 12:30 p.m. (Eastern Time) and from 1:30 p.m. to 5:00 p.m. (Eastern Time). The Department will also hold one pre-application meeting on June 24, 2011, in San Francisco, California, from 10:00 a.m. to 2:00 p.m. (Pacific Time). The Department will hold another pre-application meeting on June 28, 2011, in Houston, Texas, from 10:00 a.m. to 2:00 p.m. (Central Time). Each of these four on-site pre-application meetings will also be transmitted live through the Internet as a webinar. Detailed information on the pre-application meetings, including registration information for the on-site meetings and webinars, specific location information for the on-site meetings, and information on how to notify the Department if an attendee will need special accommodations, is available on the i3 Web site at http://www2.ed.gov/programs/innovation/index.html.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 10, 2011.
James H. Shelton, III,
Assistant Deputy Secretary for Innovation and Improvement.

[FR Doc. 2011-14861 Filed 6-14-11; 8:45 am]

BILLING CODE 4000-01-P